DEPARTMENT OF ENERGY

Federal Energy Regulatory Commission

Combined Notice of Filings #1

Take notice that the Commission received the following exempt wholesale generator filings:

Docket Numbers: EG20-219-000.

Applicants: SR Georgia Portfolio I MT, LLC.

Description: Notice of Self-Certification of Exempt Wholesale Generator Status of SR Georgia Portfolio I MT, LLC.

Filed Date: 7/24/20.

Accession Number: 20200724-5144.

Comments Due: 5 p.m. ET 8/14/20.

Take notice that the Commission received the following electric rate filings:

Docket Numbers: ER19-1644-001.

Applicants: Richland-Stryker Generation LLC.

Description: Report Filing: Refund report to be effective N/A.

Filed Date: 7/27/20.

Accession Number: 20200727-5123.

Comments Due: 5 p.m. ET 8/17/20.

Docket Numbers: ER20-1970-000.

Applicants: Diamond Spring, LLC.

Description: Supplement to June 2, 2020 Diamond Spring, LLC tariff filing.

Filed Date: 7/24/20.

Accession Number: 20200724-5130.

Comments Due: 5 p.m. ET 8/3/20.

Docket Numbers: ER20-2101-001.

Applicants: Fern Solar LLC.

Description: Tariff Amendment: Amendment to 1 to be effective 7/15/2020.

Filed Date: 7/24/20.

Accession Number: 20200724-5143.

Comments Due: 5 p.m. ET 8/14/20.

Docket Numbers: ER20-2179-000; ER20-1907-000; ER20-1980-001; ER20-1985-000; ER20-1986-000; ER20-1987-000; ER20-1988-000; ER20-1991-000; ER20-2012-000; ER20-2019-000; ER20-2027-000; ER20-2049-000; ER20-2064-000; ER20-2069-000; ER20-2070-000; ER20-2153-000; ER20-2237-000; ER20-2380-000.

Applicants: Baldwin Wind Energy, LLC, Minco Wind I, LLC, Cedar Springs Wind, LLC, Northern Colorado Wind Energy Center, LLC, Day County Wind I, LLC, Cerro Gordo Wind, LLC, Northern Colorado Wind Energy Center II, LLC, Ponderosa Wind, LLC, Orbit Bloom Energy, LLC, Gray County Wind, LLC, Cedar Springs Transmission, LLC, Cedar Springs Wind III, LLC, High Majestic Wind I, LLC, Wheatridge Wind Energy, LLC, Wheatridge Wind Energy II, LLC, Sanford Airport Solar, LLC, Weatherford Wind, LLC, Saint Solar, LLC.

Description: Amendment to Applications for Authorization to Make Market-Based Power Sales, et al. of the NextEra Companies.

Filed Date: 7/24/20.

Accession Number: 20200724-5140.

Comments Due: 5 p.m. ET 8/3/20.

Docket Numbers: ER20-2507-000.

Applicants: Vermont Transco LLC.

Description: Notice of Cancellation of Original Rate Schedules 5 and 6 of Vermont Transco LLC.

Filed Date: 7/27/20.

Accession Number: 20200727-5087.

Comments Due: 5 p.m. ET 8/17/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2020.
Nathaniel J. Davis, Sr.,
Deputy Secretary.

[FR Doc. 2020-16674 Filed 7-30-20; 8:45 am]

BILLING CODE 6717-01-P